DEPARTMENT OF COMMERCE

International Trade Administration

Extension of U.S. Section Member Appointments to the United States-Brazil CEO Forum

AGENCY: International Trade Administration (ITA), Department of Commerce (DOC).

ACTION: Notice.

SUMMARY: The Secretary of Commerce and the Director of the National Economic Council are extending the current U.S. Section Member appointments of the United States-Brazil CEO Forum through April 30, 2022.

ADDRESSES: For inquiries, please contact Christopher Di Trolio, Office of Latin America and the Caribbean, U.S. Department of Commerce, by email at Christopher.DiTrolio@trade.gov.

FOR FURTHER INFORMATION CONTACT: Christopher Di Trolio, 202-823-0530, Office of Latin America and the Caribbean, U.S. Department of Commerce. Christopher.DiTrolio@trade.gov.

SUPPLEMENTARY INFORMATION: In March 2007, the Governments of the United States and Brazil established the U.S.-Brazil CEO Forum (Forum). Through a Federal Register notice on October 12, 2018 (83 FR 51663), the Department of Commerce solicited applicants for appointment to the U.S. Section for a term of three years to expire November 30, 2021, and on December 21, 2018 (83 FR 65627), the term was extended through February 24, 2022. Vacancies arising during the three-year term were filled through the same process (see 83 FR 65627 (Dec. 21, 2018) and 86 FR 1479 (Jan. 8, 2021)). The Secretary of Commerce and the Director of the National Economic Council, together with the Brazilian Minister of Economy and the Planalto Casa Civil Minister (Presidential Chief of Staff), co-chair the U.S.-Brazil CEO Forum (Forum), pursuant to the Terms of Reference signed in March 2007 by the U.S. and Brazilian governments, as amended, which set forth the objectives and structure of the Forum. The Terms of Reference may be viewed at: https://www.trade.gov/us-brazil-ceo-forum-terms-reference/. The Forum, consisting of both private and public sector members, brings together leaders of the respective business communities of the United States and Brazil to discuss issues of mutual interest, particularly ways to strengthen the economic and commercial ties between the two countries. The Forum consists of the U.S. and Brazilian Government co-chairs and a Committee comprised of private sector members. The Committee is composed of two Sections, each consisting of approximately ten to twelve members from the private sector, representing the views and interests of the private sector business community in the United States and Brazil. Each government appoints the members to its respective Section. The Committee provides joint recommendations to the two governments that reflect private sector views, needs, and concerns regarding the creation of an economic environment in which their respective private sectors can partner, thrive, and enhance bilateral commercial ties to expand trade between the United States and Brazil.

As stated in the amended Terms of Reference, “members [of the Forum] normally are to serve three-year terms but may be reappointed.” The current U.S. Section Member appointments expire on February 24, 2022. The COVID-19 pandemic has impacted the most recently scheduled meeting of the United States-Brazil CEO Forum, resulting in a need for additional time for the current U.S. Section Members to participate in ongoing events through April 2022. For that reason, the Secretary of Commerce and the Director of the National Economic Council have decided to extend the current U.S. Section Member appointments through April 30, 2022.

Dated: January 25, 2022.
Alexander Peacher,
Director for the Office of Latin America & the Caribbean.

[FR Doc. 2022-01881 Filed 2-2-22; 8:45 am]

BILLING CODE 3510-HE-P